DEPARTMENT OF JUSTICE

Notice of Lodging of Consent Decree Under the Clean Air Act

In accordance with 28 U.S.C. 50.7, notice is hereby given that on October 6, 2004, a proposed Consent Decree in United States of America, et al. v. CITGO Petroleum Corporation, et al., Civil Action No. H-04-3883, was lodged with the United States District Court for the Southern District of Texas.

In this action, the United States sought injunctive relief and penalties against CITGO Petroleum Corporation, CITGO Refining and Chemicals Company, L.P., PDV Midwest Refining, L.L.C., and CITGO Asphalt Refining Company (collectively “CITGO”), pursuant to section 113(b) of the Clean Air Act (“CAA”), 42 U.S.C. 7413(b), for alleged environmental violations at CITGO's petroleum refineries located in Savannah, Georgia, Lemont, Illinois, Lake Charles, Louisiana, Paulsboro, New Jersey, and Corpus Christi, Texas. The States of Georgia, Illinois, Louisiana, and New Jersey have joined in this settlement as signatories in the Consent Decree.

The proposed Consent Decree requires CITGO to implement innovative pollution control technologies to greatly reduce emissions of nitrogen oxides (“NOX”) and sulfur dioxide (“SO2”) from refinery process units, to reduce the number and impact of flaring events, and to adopt facility-wide enhanced monitoring and fugitive emission control programs. In addition, CITGO will pay a civil penalty of $3.6 million and perform a supplemental environmental project with a value of at least $5.0 million.

The Department of Justice will receive for a period of thirty (30) days from the date of this publication comments relating to the Consent Decree. Comments should be addressed to the Assistant Attorney General, Environment and Natural Resources Division, PO Box 7611, U.S. Department of Justice, Washington, DC 20044-7611, and should refer to United States, et al. v. CITGO Petroleum Corporation, et al., D.J. Ref. 90-5-2-1-07277.

The Consent Decree may be examined at the Office of the United States Attorney for the Southern District of Texas, 910 Travis Street, #1500, Houston, Texas. During the public comment period, the Consent Decree may also be examined on the following Department of Justice Web site, http://www.usdoj.gov/enrd/open.html. The Consent Decree may also be examined on the following EPA Web site, http://www.epa.gov/Compliance/resources/cases/civil/caa/citgo.html. A copy of the Consent Decree may also be obtained by mail from the Consent Decree Library, PO Box 7611, U.S. Department of Justice, Washington, DC 20044-7611 or by faxing or e-mailing a request to Tonia Fleetwork (tonia.fleetwood@usdoj.gov), fax no. (202) 514-0097, phone confirmation number (202) 514-1547. In requesting a copy from the Consent Decree Library, please specify whether you would like a copy of the Consent Decree either with or without its appendices. For a copy of the Consent Decree with appendices enclose a check in the amount of $58.00 (25 cents per page reproduction costs) payable to the U.S. Treasury. For a copy of the Consent Decree without appendices enclose a check in the amount of $44.50 (25 cents per page reproduction costs) payable to the U.S. Treasury.

Robert D. Brook,
Assistant Section Chief, Environmental Enforcement Section, Environment and Natural Resources Division.

[FR Doc. 04-24072 Filed 10-27-04; 8:45 am]

BILLING CODE 4410-15-M